DEPARTMENT OF COMMERCE

National Oceanic and Atmospheric Administration

Proposed Information Collection; Comment Request; Marine Debris Survey in the Coastal North Carolina Region

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 26, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Shay Viehman, 252-728-8744 or shay.viehman@noaa.gov.

SUPPLEMENTARY INFORMATION:

I. Abstract

NOAA National Ocean Service's (NOS) Center for Coastal Fisheries and Habitat Research (CCFHR) has received funding from the NOAA Marine Debris Program to assess perceptions of marine debris (including derelict fishing gear) occurrence and distribution, environmental impacts, potential causes, and suggestions for reduction. The statutory authorities supporting this research are the Marine Debris Research, Prevention, and Reduction Act of 2006 (33 U.S.C. 1951 et seq.), and the Coastal Zone Management Act of 1972 (16 U.S.C. 1455).

NOS CCFHR requests information from fishermen holding either a commercial fishing license or a license for recreational fishermen to use commercial fishing gear issued by the State of North Carolina who fish in Core and Back Sounds. Upon receipt, this information will help determine the status of marine debris within Core and Back Sounds, North Carolina.

II. Method of Collection

Person-to-person survey technique.

III. Data

OMB Control Number: None.

Form Number: None.

Type of Review: Regular submission.

Affected Public: Business or other for-profit organizations; individuals or households.

Estimated Number of Respondents: 200.

Estimated Time per Response: 25 minutes.

Estimated Total Annual Burden Hours: 83.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 24, 2008.
Gwellnar Banks,
Management Analyst, Office of the Chief Information Officer.

[FR Doc. E8-14592 Filed 6-26-08; 8:45 am]

BILLING CODE 3510-JE-P